NATIONAL FOUNDATION ON THE ARTS AND HUMANITIES

National Endowment for the Arts

Submission of OMB Review: Comment Request

The National Endowment for the Arts (NEA) has submitted the following public information collection request (ICR) to the Office of Management and Budget (OMB) for review and approval in accordance with the Paperwork Reduction Act of 1995 [Pub. L. 104-13, 44 U.S.C. Chapter 35]. Copies of the ICR, with applicable supporting documentation, may be obtained by contacting Sunil Iyengar via telephone at 202-682-5654 (this is not a toll-free number) or email at research@arts.gov. Individuals who use a telecommunications device for the deaf (TTY/TDD) may call 202-682-5496 between 10:00 a.m. and 4:00 p.m. Eastern time, Monday through Friday.

Comments should be sent to the Office of Information and Regulatory Affairs, Attn: OMB Desk Officer for the National Endowment for the Arts, Office of Management and Budget, Room 10235, Washington, DC 20503, 202-395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submission of responses.

Agency: National Endowment for the Arts.

Title: Local Arts Agency Census.

OMB Number: 3135-XXXX.

Frequency: Annual.

Affected Public: State, Local, and Tribal Governments.

Estimated Number of Respondents: 800.

Estimated Time per Respondent: 1.03125 hours.

Total Burden Hours: 825 hours.

Total Annualized Capital/Startup Costs: 0.

Total Annual Costs (Operating/Maintaining Systems or Purchasing Services): $31,339.

This request is for clearance of an arts supplement for the 2014 Local Arts Agency Census, to be conducted by Americans for the Arts. The purpose of the Local Arts Agency Census is to develop a robust statistical baseline of data capturing the activities of an estimated 5,000 Local Arts Agencies nationwide, to help the NEA and the American public better understand the range, extent, and context of local, county, and municipal arts support, as well as policy directions and trends within the field. The data will be publicly available and the basis for a range of NEA reports and independent research publications.

Addresses: Sunil Iyengar, National Endowment for the Arts, 1100 Pennsylvania Avenue NW., Room 616, Washington, DC 20506-0001, telephone (202) 682-5654 (this is not a toll-free number), fax (202) 682-5677.

Dated: February 4, 2014.
Kathy Plowitz-Worden,
Panel Coordinator, National Endowment for the Arts.

[FR Doc. 2014-02640 Filed 2-6-14; 8:45 am]

BILLING CODE 7537-01-P